DEPARTMENT OF THE INTERIOR

Bureau of Land Management

[LLNM930000 L51010000.ER0000 LVRWG20G0690 20XL5017AP]

Notice of Availability of a Draft Environmental Impact Statement and Resource Management Plan Amendments for the SunZia Southwest Transmission Project, New Mexico, and Arizona

AGENCY: Bureau of Land Management, Interior.

ACTION: Notice of availability.

SUMMARY: The Bureau of Land Management (BLM) New Mexico State Office, Santa Fe, New Mexico, has prepared a Draft Environmental Impact Statement (EIS) to analyze the environmental impacts associated with SunZia Transmission, LLC's application seeking to amend its right-of-way grant for the SunZia Southwest Transmission Project. The BLM New Mexico State Office is the lead agency for purposes of the National Environmental Policy Act analysis with the U.S. Fish & Wildlife Service, U.S. Forest Service, U.S. National Park Service, and other agencies serving as cooperating agencies. By this Notice, the BLM is announcing the opening of the public comment period on the Draft EIS and Draft Resource Management Plan (RMP) Amendments.

DATES: To ensure that comments will be considered in the Final EIS and Proposed Resource Plan Amendments, the BLM must receive comments on the Draft EIS and Draft RMP Amendments by August 1, 2022. The dates and times of virtual public meetings will be announced at least 15 days in advance through local media, newspapers, and the BLM website at: https://eplanning.blm.gov/eplanning-ui/project/2011785/510.

ADDRESSES: Comments and requests for additional information may also be sent to SunZia Comment Period, Bureau of Land Management, New Mexico State Office, 301 Dinosaur Trail, Santa Fe, NM 87508. Verbal comments may also be submitted via a telephone hotline at 1-888-959-2510. Submit comments electronically via the ePlanning site: https://eplanning.blm.gov/eplanning-ui/project/2011785/510.

FOR FURTHER INFORMATION CONTACT: Adrian Garcia, Project Manager, Bureau of Land Management, New Mexico State Office, 301 Dinosaur Trail, Santa Fe, New Mexico 87508, telephone: (505) 954-2199. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Purpose and Need for the Proposed Action

The BLM's purpose and need for Federal action is to respond to SunZia's application to amend its right-of-way grant (NM 114438) under Title V of the Federal Land Policy and Management Act (FLPMA) consistent with applicable laws. In compliance with the National Environmental Policy Act, and FLPMA, the BLM New Mexico State Office has prepared a Draft EIS to analyze the environmental impacts associated with SunZia's amendment application. Proposed amendments to SunZia's right-of-way grant will require a plan amendment to the Socorro Field Office RMP, which the BLM has analyzed in the Draft EIS. The purpose and need of the U.S. Fish & Wildlife Service Federal action is to respond to requests to co-locate the SunZia transmission line with existing transmission line easements across the Sevilleta National Wildlife Refuge. The purpose of the U.S. Forest Service Federal action is to respond to the Applicant's application for a right-of-way to construct, operate, maintain, and decommission a transmission line on Federal lands.

Proposed Action and Alternatives

The SunZia Project is composed of two planned 500 kilovolt transmission lines located across approximately 520 miles of Federal, State, and private lands between central New Mexico and central Arizona. The purpose of the Project is to transport up to 4,500 megawatts of primarily renewable energy from New Mexico to markets in Arizona and California. The permitted route originates at a planned substation in Torrance County, New Mexico, and terminates at the existing Pinal Central Substation in Pinal County, Arizona. The Project traverses Lincoln, Socorro, Sierra, Luna, Grant, Hidalgo, Valencia, and Torrance counties in New Mexico and Graham, Greenlee, Cochise, Pinal, and Pima counties in Arizona. The route has four segments:

• Segment 1: Pinal Central Substation to Willow Substation;

• Segment 2: Willow Substation to SunZia South Substation (Segment 2a in Arizona, Segment 2b in New Mexico);

• Segment 3: SunZia South Substation to New Mexico Institute of Mining and Technology (New Mexico Tech); and

• Segment 4: New Mexico Tech to SunZia East Substation.

Prior environmental documents include a Final EIS in 2013, a subsequent Environmental Assessment and Finding of No New Significant Impact in 2015 to accommodate burial of approximately five miles of the transmission line in three locations within the White Sands Missile Range Northern Call-Up Area, and then a Record of Decision in 2015. The BLM issued a right-of-way grant to SunZia in 2016, authorizing use of a 400-foot-wide right-of-way across 183 miles of Federal lands administered by the BLM. Construction of the lines has not begun. SunZia is proposing to amend the existing grant in four components:

• Component 1—Localized Route Modifications: Six localized route modifications in New Mexico in Segments 1, 2, and 3. Five modifications involve BLM-administered land (an increase in route length of approximately 0.8 miles and 38.8 acres). The proposed route modification on non-BLM-administered land would involve an increase in route length of approximately 4.7 miles and 45.4 acres. These route modifications are being proposed to address a range of issues, including challenges in obtaining a private landowner right-of-way or easement and topography.

• Component 2—Access Roads and Temporary Work Areas Outside the Granted Right-of-Way: Adding a right-of-way for about 844.5 miles of existing and new access roads, of which approximately 804.9 miles would be permanent, 39.6 miles would be temporary, and approximately 1,402.3 acres of temporary work areas that fall outside the permitted 400-foot-wide right-of-way across both States. About 230.0 miles of access roads are on BLM-administered land (179.3 miles in New Mexico; 50.7 miles in Arizona). About 298.4 acres of temporary work areas are located on BLM-administered land in New Mexico and 33.4 acres in Arizona.

• Component 3—Segment 4 Reroute: A reroute of Segment 4 to move the line outside the White Sands Missile Range Northern Call-up Area, take advantage of an opportunity to partially parallel the Western Spirit 345 kilovolt Transmission Project, and move the eastern substation closer to proposed wind-generation projects. The total length of the currently permitted Segment 4 route is 91.7 miles, of which 20.2 miles are Federal land administered by the BLM. SunZia is considering three alternative routes. Common to all three alternatives are approximately the first 65 miles, from the SunZia East Substation to where the alternative routes diverge. These 65 miles would cross BLM (approximately 0.2 miles), State, and private lands, 35 miles of which are parallel to the Western Spirit 345 kilovolt Transmission Project. The three alternative routes (including the initial 65 miles) are:

○ Alternative Route 1: Options ranging from 145.2 to 146.5 miles, would cross approximately 20.6 to 24.0 miles of BLM-administered land and approximately 4.5 to 4.7 miles across the Cibola National Forest administered by the U.S. Forest Service.

○ Alternative Route 2: Options ranging from 115.2 to 123.0 miles, would cross approximately 6.0 miles of BLM-administered land and 14.2 miles across the Sevilleta National Wildlife Refuge administered by the U.S. Fish & Wildlife Service. About 65.5 acres of temporary work areas would be located on Sevilleta National Wildlife Refuge outside of the existing easement footprint.

○ Alternative Route 3: Options ranging from 118.7 to 126.4 miles, would cross 8.9 to 9.6 miles of BLM-administered land and approximately 12.1 miles across the Sevilleta National Wildlife Refuge administered by the U.S. Fish & Wildlife Service. About 48 acres of temporary work areas would be located on Sevilleta National Wildlife Refuge outside of the existing easement footprint.

Both Alternatives 2 and 3 are required for the Project. Additionally, the BLM has considered and analyzed additional route alternatives identified in the public scoping, Title 41 of the Fixing America's Surface Transportation Act, and the government-to-government consultation process.

• Component 4—SunZia West Substation: A substation to convert power from direct current to alternating current. SunZia intends for one of the two proposed SunZia transmission lines to be alternating current and the other transmission line to be either alternating current or direct current. The direct current line would require equipment at each terminus to convert the power from alternating current to direct current (SunZia East high-voltage direct-current converter) and from direct current to alternating current (SunZia West high-voltage direct-current converter). The SunZia West Substation is being sited along the permitted SunZia right-of-way on approximately 20-22 acres of Arizona State Trust Land just east of Red Rock, Arizona (no Federal right-of-way is needed).

The width of the right-of-way for the transmission lines typically is a minimum of 400 feet on BLM-administered lands but may be up to 1,000 feet wide in areas with terrain constraints.

The BLM analyzed SunZia's proposed amendments and alternatives to the reroute of Segment 4 in the Draft EIS. The BLM also considered a no action alternative in the Draft EIS, i.e., the BLM and other Federal agencies would not approve the localized route modifications, access roads and temporary work areas outside the granted right-of-way, the Segment 4 reroute, and the new location for the SunZia West Substation.

Summary of Expected Impacts

Impacts from the proposed action would include ground disturbance-associated impacts to natural and cultural resources; visual impacts; potential impacts to threatened and endangered species at the Rio Grande River crossing, including the Southwestern Willow Flycatcher, Yellow-Billed Cuckoo, and the Silvery Minnow; and socioeconomic effects from construction, operation, and maintenance. If an alternative reroute is selected, Federal agencies may need to amend land use plans. The public scoping, Title 41 of the Fixing America's Surface Transportation Act, and government-to-government Tribal consultation process yielded several issues of concern. Accordingly, the disciplines represented and used to analyze applicable issues in the EIS include:

• Issues analyzed in brief: Regional air quality, fugitive dust, locatable minerals, common variety minerals, sensitive soils, water quality, sedimentation to surface water resources, native vegetation, vegetation monitoring transects, riparian habitat, invasive species (noxious weeds), Desert Bighorn Sheep habitat, grasslands and Pronghorn habitat, sensitive time periods and habitat fragmentation, wildlife corridors, Sandhill Crane habitat, Sonoran Desert Tortoise habitat, Monarch Butterfly breeding habitat, Lesser Long-nosed Bat and Mexican Long-tongued Bat, recreation, hunting access, livestock grazing, transportation, civilian airports and flight paths, wilderness study areas, and hazardous materials.

• Issues analyzed in detail: Climate change, paleontological resources, avian collisions, migratory bird corridors, federally listed wildlife species, New Mexico Meadow Jumping Mouse, BLM sensitive wildlife species, federally listed plant species, BLM sensitive plant species, cultural resources, traditional cultural properties and resources with Tribal importance, national scenic and historic trails, visual resources, existing and future land uses, proposed and future rights-of-way, military operations, BLM special designations, U.S. Forest Service inventoried roadless areas, Sevilleta National Wildlife Refuge, fiscal economics and job creation, environmental justice, noise, and electric and magnetic fields.

Anticipated Permits and Authorizations

If approved, the BLM would issue a right-of-way grant and temporary use permit for Federal lands. Any alternative reroute selected that would cross the Cibola National Forest or the Sevilleta National Wildlife Refuge would require authorization from the U.S. Forest Service and U.S. Fish & Wildlife Service, respectively. The No Action Alternative would result in no change to the current right-of-way grant.

Agency-Preferred Alternative

The BLM has identified parts of the four proposed Project components as the agency's Preferred Alternative. The agency's Preferred Alternative is as follows:

• Component 1: Localized route modifications 1-5, and the 2015 Selected Route (the no action alternative in this EIS) for local route modification 6 in the Pinal Central area

• Component 2: All access roads and temporary workspaces outside the granted right-of-way

• Component 3: Alternative Route 2 (Subroute 2A-4) and Alternative Route 3 (Subroute 3A-4), which include crossing the Sevilleta National Wildlife Refuge as well as co-locating the proposed SunZia transmission line with the Western Spirit transmission line at the Rio Grande crossing. For Subroute 3A-4, the agency Preferred Alternative includes Local Alternative 3B-2 to avoid two private residences near the Project

• Component 4: The revised location for the SunZia West substation

Consultation Efforts

On July 29, 2021, this project became a FAST-41 project pursuant to Title 41 of the Fixing America's Surface Transportation Act. FAST-41 status means this project is closely monitored by Federal agencies and the Federal Permitting Improvement Steering Council at the national level. The Project can be viewed on the FAST-41 Dashboard at https://www.permits.performance.gov/permitting-project/sunzia-southwest-transmission-project.

The BLM is utilizing and coordinating the National Environmental Policy Act process to help fulfill the public involvement process under the National Historic Preservation Act (54 U.S.C. 306108) as provided in 36 CFR 800.2(d)(3). The information about historic and cultural resources within the area potentially affected by the proposed action has been used to assist the BLM in identifying and evaluating impacts to such resources. The BLM will continue to consult with Native American Tribes on a government-to-government basis in accordance with Executive Order 13175 and other policies. Tribal concerns, including impacts on Indian trust assets and potential impacts to cultural resources, will continue to be given due consideration.

Federal, State, and local agencies, along with Tribes and other stakeholders that may be interested in or affected by the proposed Project that the BLM is evaluating are invited to participate in the comment period and, if eligible, may request, or be requested by the BLM, to participate in updating the environmental analysis as a cooperating agency. Authorization of this proposal will require an amendment to the Socorro Field Office RMP. By this notice, the BLM is complying with requirements in 43 CFR 1610.2(c) to notify the public of potential plan amendments. The BLM will integrate the land use planning process with the National Environmental Policy Act analysis process for this project. The Forest Service's 2012 Planning Rule (36 CFR part 219) requires consideration of the applicable substantive requirements as described in 36 CFR 219.8 through 219.11 that are directly related to the plan direction being added, modified, or removed by the amendment (36 CFR 219.13).

Request for Substantive Comments

The BLM encourages substantive comments (comments that avoid opinions and are specific; describe the significance of the impacts and how they affect you, others, places, and activities; provide any new information that is relevant to the project [e.g., potential affected resources]; and discuss modifications to existing alternatives or suggest other reasonable alternatives with justification) concerning the proposed SunZia Southwest Transmission Project. You may submit comments at any time during the 90-day comment period by using one of the methods listed in the ADDRESSES section of this Notice. Public meetings will be conducted virtually with BLM staff to explain Project details and gather information from interested individuals or groups. Representatives from SunZia will be available to answer questions.

Before including your address, phone number, email address, or other personal identifying information in your comment, you should be aware that your entire comment—including your personal identifying information—may be made publicly available at any time. While you can ask us in your comment to withhold your personal identifying information from public review, we cannot guarantee that we will be able to do so. Any persons wishing to be added to a mailing list of interested parties can call or write to the BLM, as described in this Notice. Additional information meetings may be conducted throughout the process to keep the public informed of the progress of the EIS.

Authority: 40 CFR 1501.7 and 43 CFR 1610.2.

Steven R. Wells,
New Mexico Associate State Director.

[FR Doc. 2022-09379 Filed 4-29-22; 8:45 am]

BILLING CODE 4310-FB-P